DEPARTMENT OF JUSTICE

Office of Justice Programs

[OJP (NIJ) Docket No. 1538]

Vehicular Digital Multimedia Evidence Recording System (VDMERS) Standard for Law Enforcement

AGENCY: National Institute of Justice, Department of Justice.

ACTION: Notice of Draft VDMERS Standard for Law Enforcement.

SUMMARY: In an effort to obtain comments from interested parties, the U.S. Department of Justice, Office of Justice Programs, National Institute of Justice (NIJ) will make available to the general public the draft “Vehicular Digital Multimedia Evidence Recording System Standard for Law Enforcement.” The opportunity to provide comments on this voluntary standard is open to industry technical representatives, law enforcement agencies and organizations, research, development and scientific communities, and all other stakeholders and interested parties. Those individuals wishing to obtain and provide comments on the draft standard under consideration are directed to the following Web site: http://www.justnet.org.

DATES: Comments must be received on or before January 31, 2011.

FOR FURTHER INFORMATION CONTACT: Casandra Robinson, by telephone at 202-305-2596 [Note: this is not a toll-free telephone number], or by e-mail at casandra.robinson@usdoj.gov.

John H. Laub,
Director, National Institute of Justice.

[FR Doc. 2010-31486 Filed 12-14-10; 8:45 am]

BILLING CODE 4410-18-P